FEDERAL COMMUNICATIONS COMMISSION

47 CFR Part 73

[DA 03-367, Docket No. 02-125, RM-10447]

Radio Broadcasting Services; Sutton, NE

AGENCY: Federal Communications Commission.

ACTION: Proposed rule, dismissal.

SUMMARY: This document dismisses a pending petition for rulemaking to add an FM allotment in Sutton, Nebraska. The Commission had requested comment on a petition filed by Sutton Radio Company, proposing the allotment of Channel 278C2 at Sutton, Nebraska. See 67 FR 41364, June 18, 2002. The petitioner filed comments in support of the proposal. No other comments were received. On November 5, 2002, petitioner filed a request for dismissal of its pending petition. This document grants that request, dismissing the petition and terminating the proceeding.

ADDRESSES: Federal Communications Commission, Washington, DC 20554.

FOR FURTHER INFORMATION CONTACT: Deborah A. Dupont, Media Bureau (202) 418-7072.

SUPPLEMENTARY INFORMATION: This is a synopsis of the Commission's Report and Order, MM Docket No. 02-125, adopted February 5, 2002, and released February 7, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

Federal Communications Commission.
John A. Karousos,
Assistant Chief, Audio Division, Media Bureau.

[FR Doc. 03-4369 Filed 2-24-03; 8:45 am]

BILLING CODE 6712-01-P